DEPARTMENT OF ENERGY

Federal Energy Regulatory Commission

Combined Notice of Filings #1

Take notice that the Commission received the following electric rate filings:

Docket Numbers: ER11-3594-000.

Applicants: City of Anaheim, California.

Description: Compliance Report to be effective N/A.

Filed Date: 6/5/13.

Accession Number: 20130605-5077.

Comments Due: 5 p.m. ET 6/26/13.

Docket Numbers: ER13-1403-000.

Applicants: Dominion Bridgeport Fuel Cell, LLC.

Description: Amendment to May 2, 2013 Dominion Bridgeport Fuel Cell, LLC tariff filing.

Filed Date: 6/4/13.

Accession Number: 20130604-5142.

Comments Due: 5 p.m. ET 6/14/13.

Docket Numbers: ER13-1630-001.

Applicants: California Independent System Operator Corporation, AES Huntington Beach, L.L.C.

Description: Amendments to RMR Agreement Under Docket ER13-1630 to be effective 6/26/2013.

Filed Date: 6/5/13.

Accession Number: 20130605-5001.

Comments Due: 5 p.m. ET 6/26/13.

Docket Numbers: ER13-1634-000.

Applicants: Puget Sound Energy, Inc.

Description: Morgan Stanley TX Agreements 669 and 670 to be effective 8/3/2013.

Filed Date: 6/4/13.

Accession Number: 20130604-5120.

Comments Due: 5 p.m. ET 6/25/13.

Docket Numbers: ER13-1635-000.

Applicants: Southwest Power Pool, Inc.

Description: 2548R1 KMEA and Westar Energy Meter Agent Agreement to be effective 6/1/2013.

Filed Date: 6/5/13.

Accession Number: 20130605-5031.

Comments Due: 5 p.m. ET 6/26/13.

Docket Numbers: ER13-1636-000.

Applicants: ISO New England Inc., Northeast Utilities Service Company, The Connecticut Light and Power Company.

Description: ISO New England Inc. and Northeast Utilities Service Company, on behalf of The Connecticut Light and Power Company, Notice of Cancellation of Original Service Agreement No. LGIA-ISONE/NU-06-02.

Filed Date: 6/5/13.

Accession Number: 20130605-5060.

Comments Due: 5 p.m. ET 6/26/13.

Docket Numbers: ER13-1637-000.

Applicants: PacifiCorp.

Description: OATT Revised Attachment C (6/5/13) to be effective 6/6/2013.

Filed Date: 6/5/13.

Accession Number: 20130605-5067.

Comments Due: 5 p.m. ET 6/26/13.

Docket Numbers: ER13-1638-000.

Applicants: Public Service Company of Colorado.

Description: 2013-06-05_TSGT-Comanche Telecom 344 to be effective 8/5/2013.

Filed Date: 6/5/13.

Accession Number: 20130605-5084.

Comments Due: 5 p.m. ET 6/26/13.

Docket Numbers: ER13-1639-000.

Applicants: PJM Interconnection, L.L.C.

Description: Original Service Agreement No. 3569—Queue Position X2-012 to be effective 5/6/2013.

Filed Date: 6/5/13.

Accession Number: 20130605-5099.

Comments Due: 5 p.m. ET 6/26/13.

Docket Numbers: ER13-741-002.

Applicants: ISO New England Inc., Bangor Hydro Electric Company.

Description: Oakfield LGIA Supplemental Compliance Filing to be effective N/A.

Filed Date: 6/5/13.

Accession Number: 20130605-5045.

Comments Due: 5 p.m. ET 6/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2013.
Nathaniel J. Davis, Sr.,
Deputy Secretary.

[FR Doc. 2013-14008 Filed 6-12-13; 8:45 am]

BILLING CODE 6717-01-P